INTERNATIONAL TRADE COMMISSION

[USITC SE-18-044]

Government in the Sunshine Act Meeting Notice

Agency Holding the Meeting: United States International Trade Commission.

TIME AND DATE: October 16, 2018 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-590 and 731-TA-1397 (Final) (Sodium Gluconate, Gluconic Acid, and Derivative Products from China). The Commission is currently scheduled to complete and file its determinations and views of the Commission by October 30, 2018.

5. Outstanding action jackets: None.

In accordance with Commission policy, subject matter listed above, not disposed of at the scheduled meeting, may be carried over to the agenda of the following meeting.

By order of the Commission.
Issued: October 3, 2018.
William Bishop,
Supervisory Hearings and Information Officer.

[FR Doc. 2018-21950 Filed 10-4-18; 11:15 am]

BILLING CODE 7020-02-P